DEPARTMENT OF COMMERCE

National Oceanic and Atmospheric Administration

50 CFR Part 648

[Docket No. 100120035-4085-03]

RIN 0648-AY26

Fisheries of the Northeastern United States; Atlantic Mackerel, Squid, and Butterfish Fisheries; Amendment 14; Correction

AGENCY: National Marine Fisheries Service (NMFS), National Oceanic and Atmospheric Administration (NOAA), Commerce.

ACTION: Final rule; correction.

SUMMARY: This action corrects a mistake in the effective dates in the final rule for Amendment 14 to the Atlantic Mackerel, Squid, and Butterfish Fishery Management Plan.

DATES: Effective March 26, 2014, except for the amendments to § 648.7(b)(3)(ii)-(iii) and § 648.10 which are effective September 1, 2014.

FOR FURTHER INFORMATION CONTACT: Aja Szumylo, Fishery Policy Analyst, 978-281-9195.

SUPPLEMENTARY INFORMATION:

Background

The final rule for Amendment 14 to the Atlantic Mackerel, Squid, and Butterfish (MSB) Fishery Management Plan was published in the Federal Register on February 24, 2014 (79 FR 10029). The final measures in that action included: Revising vessel reporting requirements (vessel trip reporting frequency, pre-trip and pre-landing vessel notification requirements, and requirements for vessel monitoring systems); expanding vessel requirements to maximize observer's ability to sample catch at-sea; minimizing the discarding of unsampled catch; and a measure to allow the Council to set a cap on river herring and shad catch in the Atlantic mackerel fishery.

The final rule set the effective date for amendments to regulations at § 648.7(b)(3)(ii)-(iii) and § 648.10 as April 25, 2014. These regulations establish vessel monitoring system requirements for limited access mackerel and longfin squid/butterfish moratorium permit holders. Because of the time and costs associated with purchasing and installing a new VMS unit, NMFS intended to allow these permit holders 6 months to complete purchase units, installation, and become familiar with the new requirements. To allow time for permit holders to comply with this new requirement, this correction adjusts the effective date for these measures to September 1, 2014. This correction does not change the intent or application of the measures described in the proposed and final rule.

Classification

Because it makes only minor, non-substantive changes and does not change operating practices in the fishery, it is unnecessary under 5 U.S.C. 553(b)(B) to provide for prior public comment. Because this correction notice does not constitute a substantive rule, it is not subject to the requirement for a 30-day delay in effective date in 5 U.S.C. 553(d).

Because prior notice and opportunity for public comment are not required for this rule by 5 U.S.C. 553, or any other law, the analytical requirements of the Regulatory Flexibility Act, 5 U.S.C. 601 et seq. are inapplicable.

This final rule has been determined to be not significant for purposes of Executive Order 12866.

Correction

In the Federal Register of February 24, 2014, in FR Doc. 2014-03906, on page 10030, in the first column, the effective date is corrected in the DATES section of this document.

Dated: March 12, 2014.
Samuel D. Rauch III,
Deputy Assistant Administrator for Regulatory Programs, National Marine Fisheries Service.

[FR Doc. 2014-05822 Filed 3-18-14; 8:45 am]

BILLING CODE 3510-22-P